SECURITIES AND EXCHANGE COMMISSION

17 CFR Part 240

General Rules and Regulations, Securities Exchange Act of 1934

CFR Correction

In Title 17 of the Code of Federal Regulations, part 240 to End, revised as of April 1, 2015, on page 543, § 240.17a-23 is removed and reserved.

[FR Doc. 2016-07561 Filed 3-31-16; 8:45 am]

BILLING CODE 1505-01-D